DEPARTMENT OF COMMERCE

National Oceanic and Atmospheric Administration

50 CFR Part 660

[I.D. 010401A]

Pacific Fishery Management Council; Public Meetings and Hearings

AGENCY: National Marine Fisheries Service (NMFS), National Oceanic and Atmospheric Administration (NOAA), Commerce.

ACTION: Notice of availability of salmon management options; public meetings and hearings.

SUMMARY: The Pacific Fishery Management Council (Council) has begun its annual preseason management process for the 2001 ocean salmon fisheries. This document announces the availability of Council documents as well as the dates and locations of Council meetings and public hearings that comprise the Council’s complete schedule of events for determining the annual proposed and final modifications to ocean salmon fishery management measures. The agendas for the March and April Council meetings will be published in subsequent Federal Register documents prior to the actual meetings.

DATES: Written comments on the salmon management options must be received by March 28, 2001, at noon Pacific Time. For dates and times of the public meetings and hearings see SUPPLEMENTARY INFORMATION.

ADDRESSES: Documents containing the salmon management options will be available from and written comments should be sent to Jim Lone, Chairman, Pacific Fishery Management Council, 2130 SW Fifth Avenue, Suite 224, Portland, Oregon, 97201; phone: 503-326-6352; fax: 503-326-6831. For locations of the public meetings and hearings, see SUPPLEMENTARY INFORMATION.

FOR FURTHER INFORMATION CONTACT: John Coon at 503-326-6352.

SUPPLEMENTARY INFORMATION:

Dates, Times, and Locations

Schedule For Document Availability

February 27, 2001: “Review of 2000 Ocean Salmon Fisheries” and “Preseason Report I-Stock Abundance Analysis for 2001 Ocean Salmon Fisheries” will be available to the public from the Council office.

March 20, 2001: “Preseason Report II” and the public hearing schedule will be mailed to the public. The report will include a description of the adopted salmon management options and a summary of their biological and economic impacts.

April 13, 2001: Newsletter describing adopted ocean salmon fishing management measures will be mailed to the public.

May 1, 2001: Federal regulations will be implemented and “Preseason Report III- Analysis of Council-Adopted Ocean Salmon Management Measures for 2001 Ocean Salmon Fisheries” will be available from the Council office (see ADDRESSES).

Public Hearings

Public hearings will be held on March 26 to 28, 2001, to receive comments on the proposed ocean salmon fishery management options adopted by the Council. All public hearings begin at 7 p.m. on the dates and at the locations specified here.

March 26, 2001: Chateau Westport, 710 W Hancock, Westport, WA.

March 26, 2001: Red Lion Hotel, 1313 N Bayshore Drive, Coos Bay, OR.

March 27, 2001: Red Lion Hotel Eureka, 1929 Fourth Street, Eureka, CA.

April 2-6, 2001: Council and advisory entities meet at the Red Lion Hotel Sacramento, Sacramento, CA, to adopt 2001 management measures for implementation by NMFS.

April 3, 2001: Testimony on the management options will be taken during the Council meeting at the Red Lion Hotel Sacramento, Sacramento, CA.

Public Meetings

January 16-19, 2001: The Salmon Technical Team (STT) will meet at the Council office in a public work session to draft “Review of 2000 Ocean Salmon Fisheries” and to consider any other estimation or methodology issues pertinent to the 2001 ocean salmon fisheries.

February 13-16, 2001: The STT will meet at the Council office in a public work session to draft “Preseason Report I-Stock Abundance Analysis for 2000 Ocean Salmon Fisheries” and to consider any other estimation or methodology issues pertinent to the 2001 ocean salmon fisheries.

March 5-9, 2001: Council and advisory entities will meet at the Doubletree Hotel - Columbia River, 1401 North Hayden Island Drive, Portland, OR to adopt the 2001 salmon management options for public review.

Although non-emergency issues not contained in the STT meeting agendas may come before the STT for discussion, those issues may not be the subject of formal STT action during these meetings. STT action will be restricted to those issues specifically listed in this document and to any issues arising after publication of this document that require emergency action under section 305(c) of the Magnuson-Stevens Fishery Conservation and Management Act, provided the public has been notified of the STT’s intent to take final action to address the emergency.

Special Accommodations

The meetings and hearings are physically accessible to people with disabilities. Requests for sign language interpretation or other auxiliary aids should be directed to Ms. Carolyn Porter at 503-326-6352 (voice), or 503-326-6831 (fax) at least 5 days prior to the meeting date.

Authority: 16 U.S.C. et seq.

Dated: January 8, 2001.
Clarence Pautzke,
Director, Office of Sustainable Fisheries, National Marine Fisheries Service.

[FR Doc. 01-1062 Filed 1-11-01; 8:45 am]

BILLING CODE 3510-22-S